DEPARTMENT OF COMMERCE

Bureau of Industry and Security

15 CFR Part 774

The Commerce Control List

CFR Correction

In Title 15 of the Code of Federal Regulations, Parts 300-799, revised as of January 1, 2011, in Supplement No. 1 to Part 774, in ECCN 2B008, the “Items” paragraph on page 719 is revised to read as follows:

Supplement No. 1 to PART 774—THE COMMERCE CONTROL LIST

* * * * *

2B008 Assemblies or Units, Specially Designed for Machine Tools, or Dimensional Inspection or Measuring Systems and Equipment, as Follows (See List of Items Controlled).

* * * * *

Items:

a. Linear position feedback units (e.g., inductive type devices, graduated scales, infrared systems or “laser” systems) having an overall “accuracy” less (better) than (800 + (600 × L × 10⁻³)) nm (L equals the effective length in mm);

N.B.: For “laser” systems see also 2B006.b.1.c and d.

b. Rotary position feedback units (e.g., inductive type devices, graduated scales, infrared systems or “laser” systems) having an “accuracy” less (better) than 0.00025°;

N.B.: For “laser” systems see also 2B006.b.2.

c. “Compound rotary tables” and “tilting spindles”, capable of upgrading, according to the manufacturer's specifications, machine tools to or above the levels controlled by 2B001 to 2B009.

* * * * *

[FR Doc. 2011-27753 Filed 10-25-11; 8:45 am]

BILLING CODE 1505-01-D